NUCLEAR REGULATORY COMMISSION

10 CFR Part 10

RIN 3150-AH69

Delegation Changes

AGENCY: Nuclear Regulatory Commission.

ACTION: Final rule.

SUMMARY: The Nuclear Regulatory Commission (NRC) is revising its regulations to change the references from Deputy Executive Director for Management Services to Deputy Executive Director for Information Services and Administration and Chief Information Officer. The revision is necessary to reflect a recent realignment in the Office of the Executive Director for Operations. This final rule is necessary to inform the public of organizational changes within the NRC.

DATES: Effective May 31, 2005.

FOR FURTHER INFORMATION CONTACT: Alzonia Shepard, Regulations Specialist, Rules and Directives Branch, Division of Administrative Services, Office of Administration, U.S. Nuclear Regulatory Commission, Washington, DC 20555-0001, Telephone (301) 415-6864, e-mail aws1@nrc.gov.

SUPPLEMENTARY INFORMATION: On January 6, 2005, the NRC announced a realignment of functions of the Office of the Executive Director for Operations. With the realignment, some of the functions assigned previously to the Deputy Executive Director for Management Services are assigned to the Deputy Executive Director for Information Services and Administration and Chief Information Officer.

Because these amendments constitute minor administrative changes to the regulations concerning agency organization, the notice and comment provisions of the Administrative Procedure Act do not apply under 5 U.S.C. 553(b)(B). The amendments are effective upon publication in the Federal Register. Good cause exists under 5 U.S.C 553(d) to dispense with the usual 30-day delay in the effective date of the final rule, because the amendments are of a minor and administrative nature dealing with changes to certain CFR sections, which do not require action by any person or entity regulated by the NRC. Further, the final rule does not change the substantive responsibilities of any person or entity regulated by the NRC.

Environmental Impact: Categorical Exclusion

The NRC has determined that this final rule is the type of action described in categorical exclusion 10 CFR 51.22(c)(2). Therefore, neither an environmental impact statement nor an environmental assessment has been prepared for this final rule.

Paperwork Reduction Act Statement

This final rule does not contain new or amended information collection requirements subject to the Paperwork Reduction Act of 1995 (44 U.S.C. 3501 et seq.). Existing requirements were approved by the Office of Management and Budget, approval numbers 3150-0053; 3150-0044; 3150-0010; 3150-0130; 3150-0020; and 3150-0011.

Public Protection Notification

The NRC may not conduct or sponsor, and a person is not required to respond to, a request for information of an information collection requirement unless the requesting document displays a currently valid OMB control number.

List of Subjects in 10 CFR Part 10

Administrative practice and procedure, Classified information, Government employees, Security measures.

For the reasons set forth in the preamble and under the authority of the Atomic Energy Act of 1954, as amended; the Energy Reorganization Act of 1974, as amended; and 5 U.S.C. 552 and 553, the NRC is adopting the following amendments to 10 CFR part 10.

PART 10—CRITERIA AND PROCEDURES FOR DETERMINING ELIGIBILITY FOR ACCESS TO RESTRICTED DATA OR NATIONAL SECURITY INFORMATION OR AN EMPLOYMENT CLEARANCE

1. The authority citation for Part 10 continues to read as follows:

Authority: Secs. 145, 161, 68 Stat. 942, 948, as amended (42 U.S.C. 2165, 2201); sec. 201, 88 Stat. 1242, as amended (42 U.S.C. 5841); E.O. 10450, 3 CFR parts 1949-1953 COMP., p. 936, as amended; E.O. 10865, 3 CFR 1959-1963 COMP., p. 398, as amended; 3 CFR Table 4; E.O. 12968, 3 CFR 1995 COM., p. 396.

PART 10—[AMENDED]

2. In 10 CFR Part 10, revise the phrase “Deputy Executive Director for Management Services” to read “Deputy Executive Director for Information Services and Administration and Chief Information Officer” wherever it appears.

Dated in Rockville, Maryland, this 12th day of May, 2005.
For the Nuclear Regulatory Commission.
Luis A. Reyes,
Executive Director for Operations.

[FR Doc. 05-10710 Filed 5-27-05; 8:45 am]

BILLING CODE 7590-01-P